DEPARTMENT OF DEFENSE

Department of the Army

Final Environmental Impact Statement (FEIS) for Grow the Army Actions at Fort Lewis and the Yakima Training Center (YTC), WA

AGENCY: Department of the Army, DoD.

ACTION: Notice of Availability (NOA).

SUMMARY: The Department of the Army announces the availability of an FEIS for Fort Lewis and YTC that analyzes the environmental impacts of implementing the decisions in the 2007 Army Growth and Force Structure Realignment Programmatic EIS (also referred to as the Grow The Army PEIS or GTA PEIS) and other ongoing Army realignment and stationing initiatives, such as the potential for Combat Aviation Brigade (CAB) stationing that may potentially effect Fort Lewis and YTC. The Proposed Action could station up to 5,700 Soldiers and their Families at Fort Lewis. The Proposed Action includes the stationing of 1,900 Soldiers directed under the GTA PEIS, the potential additional stationing of up to 1,000 combat service support (CSS) Soldiers, and the potential stationing of a medium Combat Aviation Brigade (CAB) of approximately 2,800 Soldiers for a total of up to 5,700 Soldiers. After reviewing the alternatives analyzed in the FEIS, the Army has identified Alternative 4 as its preferred alternative, which includes all components of the GTA, CSS, and CAB alternatives (up to a total of 5,700 Soldiers and 8,260 family members).

DATES: The waiting period for the FEIS will end on September 27, 2010.

ADDRESSES: Questions or comments regarding the FEIS should be forwarded to: Directorate of Public Works, Attention: IMWE-LEW-PWE (Mr. Paul T. Steucke, Jr.), Building 2012, Liggett Avenue, Box 339500 MS 17, Joint Base Lewis-McChord, WA 98433-9500.

FOR FURTHER INFORMATION CONTACT: Mr. Bill Van Hoesen, Joint Base Lewis-McChord National Environmental Policy Act (NEPA) Coordinator, at (253) 966-1780 during normal business hours.

SUPPLEMENTARY INFORMATION: On February 1, 2010, Fort Lewis, Yakima Training Center, and McChord Air Force Base were designated a joint base and renamed “Joint Base Lewis-McChord”; however, the terms “Fort Lewis,” and “Yakima Training Center (YTC)” are retained in the FEIS and will be used until the EIS process is complete.

The FEIS analyzes the direct, indirect, and cumulative impacts of the site specific actions for the alternatives to implement the Proposed Action. These actions include troop stationing, maneuver and live-fire training, demolition of outdated facilities, and construction of new facilities and firing ranges.

Four alternatives for the Proposed Action are analyzed. Under all alternatives, the Soldiers would train at Fort Lewis and YTC.

(1) The No Action alternative assumes that the Army GTA decisions would not be implemented. Analysis of the No Action alternative serves as a baseline for comparison of the other alternatives. Under this alternative, planned construction that is not part of the GTA decisions includes troop barracks, recreational facilities, traffic flow improvements and other infrastructure upgrades at Fort Lewis.

(2) The GTA alternative implements the Army GTA decisions affecting Fort Lewis and YTC. Maneuver and live-fire training of an additional 1,900 Soldiers will occur at Fort Lewis and YTC. This alternative also includes the training of three Stryker Brigade Combat Teams (SBCTs) simultaneously at Fort Lewis and YTC. Planned new construction includes brigade barracks complexes, the upgrade of substandard SBCT facilities to meet Army standards, and additional firing ranges at Fort Lewis and YTC.

(3) The CSS alternative represents the potential stationing at Fort Lewis of up to 1,000 CSS Soldiers in addition to Alternative 2. Maneuver and live-fire training of up to 2,900 new Soldiers would occur at Fort Lewis and YTC. Specific construction projects cannot be identified until the types and numbers of CSS units are known, but new construction would include barracks, motor pools, classrooms, and administrative facilities.

(4) The CAB alternative represents the potential stationing at Fort Lewis of a CAB in addition to Alternative 3. Maneuver and live-fire training of up to 5,700 new Soldiers would occur at Fort Lewis and YTC. This maneuver would include the air and ground assets of the CAB. New construction facilities to support the CAB would be similar to those required for Alternative 3.

The Army will soon initiate a programmatic environmental analysis that may result in the stationing of a CAB or additional CAB units at Fort Lewis. No final decisions have been made at the Headquarters, Department of the Army level on a CAB at this time.

Copies of the FEIS are available at local libraries surrounding Fort Lewis and YTC. The FEIS can also be viewed at: http://www.lewis.army.mil/publicworks/sites/envir/EIA_2.htm.

Dated: September 1, 2010.
Hershell E. Wolfe,
Acting Deputy Assistant Secretary of the Army (Environment, Safety and Occupational Health).

[FR Doc. 2010-22677 Filed 9-9-10; 8:45 am]

BILLING CODE 3710-08-P